DEPARTMENT OF HEALTH AND HUMAN SERVICES

Substance Abuse and Mental Health Services Administration

Advisory Committee for Women's Services; Notice of Meeting

Pursuant to Public Law 92-463, notice is hereby given of the meeting of the Advisory Committee for Women's Services of the Substance Abuse and Mental Health Services Administration (SAMHSA) in May 2000.

The meeting of the Advisory Committee for Women's Services will be open and will include discussions of policy and program issues relating to women's substance abuse and mental health services needs, children and violence matters, priority of committee goals for the current year and other policy issues.

Public comments are welcome. Please communicate with the individual listed as contact below to make arrangements to comment or to request special accommodations for persons with disabilities.

Substantive program information, a summary of the meeting and a roster of the committee members, may be obtained from the Contact whose name and telephone number is listed below.

Committee Name: Advisory Committee for Women's Services.

Meeting Date: May 12, 2000.

Meeting Time: 9 a.m. to 5 p.m.

Place: Bethesda Marriott Pooks Hill Hotel, 5151 Pooks Hill Road, Bethesda, MD 20814.

Type: Open.

Contact: Nancy P. Brady, Executive Secretary, Parkland Building, Room 13-99, Telephone: (301) 443-8964, Fax: (301) 443-8964, E-mail: nbrady@samhsa.gov.

Dated: April 18, 2000.
Toian Vaughn,
Committee Management Officer, Substance Abuse and Mental Health Services Administration.

[FR Doc. 00-10363 Filed 4-25-00; 8:45 am]

BILLING CODE 4162-20-M